DEPARTMENT OF HOMELAND SECURITY

Federal Emergency Management Agency

Agency Information Collection Activities: Submission for OMB Review; Comment Request

AGENCY: Federal Emergency Management Agency, DHS.

ACTION: Notice; 30-day notice and request for comments; Revision of currently approved collection, OMB 1660-0039, Form numbers: FF 95-58 and FF 95-59.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Title: National Fire Academy Long-term Evaluation Form for Supervisors and National Fire Academy Long-term Evaluation Form for Students.

OMB Number: 1660-0039.

Abstract: The National Fire Academy Long-term Evaluation Form will be used to evaluate all National Fire Academy (NFA) on-campus resident training courses. Course graduates and their supervisors will be asked to evaluate the impact of the training on both individual job performance and the fire and emergency response department/community where the student works. The data provided by students and supervisors is used to update existing NFA course materials and to develop new courses that reflect the emerging issues/needs of the Nation's fire service.

Affected Public: Individuals and Households.

Number of Respondents: 10,000.

Estimated Time per Respondent: Burden for this collection is .33 hours for FEMA Form 95-59 and .17 hours for FEMA Form 95-58 Estimated Total Annual Burden Hours: 2,500.

Frequency of Response: Once.

Comments: Interested persons are invited to submit written comments on the proposed information collection to the Office of Information and Regulatory Affairs, Office of Management and Budget, Attention: Nathan Lesser, Desk Officer, Department of Homeland Security/FEMA, and sent via electronic mail to oira_submission@omb.eop.gov or faxed to (202) 395-6974. Comments must be submitted on or before January 28, 2008.

FOR FURTHER INFORMATION CONTACT: Requests for additional information or copies of the information collection should be made to Director, Records Management Division, 500 C Street, SW., Washington, DC 20472, Mail Drop Room 301, 1800 S. Bell Street, Arlington, VA 22202, facsimile number (202) 646-3347, or e-mail address FEMA-Information-Collections@dhs.gov.

Dated: December 19, 2007.
John A. Sharetts-Sullivan,
Director, Records Management Division, Office of Management, Federal Emergency Management Agency, Department of Homeland Security.

[FR Doc. E7-25292 Filed 12-27-07; 8:45 am]

BILLING CODE 9110-17-P